DEPARTMENT OF COMMERCE

National Oceanic and Atmospheric Administration

Agency Information Collection Activities; Submission to the Office of Management and Budget for Review and Approval; Comment Request; Southeast Region Logbook Family of Forms

AGENCY: National Marine Fisheries Service (NMFS), Commerce.

ACTION: Notice of information collection; request for comment.

SUMMARY: The Department of Commerce invites the general public and other Federal agencies to comment on proposed and continuing information collections in accordance with the Paperwork Reduction Act of 1995 (PRA), which helps us assess the impact of our information collection requirements and minimize the public's reporting burden. The purpose of this notice is to allow for 60 days of public comment preceding submission of the collection to the Office of Management and Budget (OMB).

DATES: To ensure consideration, comments regarding this proposed information collection must be received by October 15, 2024.

ADDRESSES: Interested persons are invited to submit written comments to Adrienne Thomas, NOAA PRA Officer, at noaa.pra@noaa.gov. Please reference OMB Control Number 0648-0016 in the subject line of your comments. All comments received are part of the public record and will generally be posted on https://www.regulations.gov without change. Do not submit confidential business information or otherwise sensitive or protected information.

FOR FURTHER INFORMATION CONTACT: Direct requests for additional information or questions related to collection activities described in this notice to Rich Malinowski, NMFS Southeast Regional Office, Sustainable Fisheries Division, 263 13th Ave South, St. Petersburg, FL 33701, telephone: 727-824-5305, email: rich.malinowski@noaa.gov.

SUPPLEMENTARY INFORMATION:

I. Abstract

The NMFS Southeast Region proposes to revise parts of the information collections currently approved under OMB Control Number 0648-0016 to comply with a court order from the U.S. Fifth Circuit Court of Appeals, which effectively invalidated previous regulations implemented by NMFS. The NMFS Southeast Region manages commercial and recreational fisheries in Federal waters of the Gulf of Mexico (Gulf), South Atlantic, and Caribbean under the authority of the Magnuson-Stevens Fishery Conservation and Management Act (Magnuson-Stevens Act), 16 U.S.C. 1801 et seq., through regulations implemented at 50 CFR part 622. Participants in most of these federally managed fisheries are required to keep and submit logbooks of their fishing effort and catch from their fishing trips. Some fishermen on these vessels also provide information on the species and quantities of fish, shellfish, marine turtles, and marine mammals that are caught and discarded or have interacted with the fishing gear. These fishermen may also provide information about dockside prices, trip operating costs, and annual fixed costs.

NMFS is developing a final rule to remove the regulations for the Gulf electronic reporting program applicable to an owner or operator of a recreational charter vessel or headboat (for-hire vessel) with such a recreational permit to fish for federally managed Gulf reef fish or Gulf coastal migratory pelagic species. The final rule will reinstate regulations for recordkeeping and reporting that were in effect on January 4, 2021, before the effective dates of the invalidated rules. Those historical regulations can be viewed at this website: https://www.ecfr.gov/on/2021-01-04/title-50/chapter-VI/part-622?toc=1. See subparts B and Q to part 622.

Because the rulemaking action results from a court order, NMFS does not have discretion to change the recordkeeping and reporting regulations from those in effect on January 4, 2021, which consisted of the information collection requirements previously approved by OMB and implemented by NMFS. Therefore, this revision would: 1. remove from the approved information collections all components associated with the Gulf for-hire electronic reporting program, and 2. reinstate those previously approved recordkeeping and reporting requirements, the number of respondents, responses, and the time and cost burdens for which were at a much smaller scale, without changes to other information collections under OMB Control Number 0648-0016, Southeast Region Logbook Family of Forms.

II. Method of Collection

The information is submitted on paper forms and electronic transmissions.

III. Data

OMB Control Number: 0648-0016.

Form Number(s): None.

Type of Review: Regular submission—revision of a current information collection.

Affected Public: Businesses or other for-profit organizations.

Estimated Number of Respondents: 5,499.

Estimated Time per Response: Annual fixed-cost report, 45 minutes; Discard logbook, 15 minutes; headboat, charter vessel, golden crab, reef fish-mackerel, economic cost per trip, and wreckfish, 10 minutes; No-fishing report for golden crab, reef fish-mackerel, charter vessels, and wreckfish, 2 minutes.

Estimated Total Annual Burden Hours: 42,797.

Estimated Total Annual Cost to Public: $148,400 in recordkeeping and reporting costs.

Respondent's Obligation: Mandatory, required to obtain or retain benefits.

Legal Authority: Magnuson-Stevens Act, 16 U.S.C. 1801 et seq.

IV. Request for Comments

We are soliciting public comments to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-18406 Filed 8-15-24; 8:45 am]

BILLING CODE 3510-22-P